DEPARTMENT OF EDUCATION

Notice Announcing Availability of Funds and Application Deadline; Emergency Assistance to Institutions of Higher Education

AGENCY: Office of Postsecondary Education, Department of Education.

ACTION: Notice.

SUMMARY: The Department of Education (Department) is issuing a notice announcing the availability of funds and the application deadline for new grants to institutions of higher education (IHEs) under the Emergency Assistance to Institutions of Higher Education (2019 EAI) Program, Catalog of Federal Domestic Assistance (CFDA) number 84.938T, under title VIII of the Additional Supplemental Appropriations for Disaster Relief Act of 2019 (hereafter referred to as the Disaster Supplemental), for education-related disaster recovery activities related to disasters in 2018 and 2019 for which a major disaster or emergency has been declared by the President. Refer to the Purposes of Program section for more information on specific disasters that are covered by this program funding. This notice relates to the approved information collection under OMB control number 1840-0839.

DATES:

Applications Available: September 16, 2019.

Deadline for Transmittal of Applications: October 28, 2019.

ADDRESSES: The addresses pertinent to this program, including the addresses for obtaining and submitting an application, can be found under SUPPLEMENTARY INFORMATION.

FOR FURTHER INFORMATION CONTACT: Beatriz Ceja, U.S. Department of Education, 400 Maryland Avenue SW, Room 260-04, Washington, DC 20202. Telephone: (202) 453-6239. Email: EAIProgram@ed.gov.

If you use a telecommunications device for the deaf (TDD) or a text telephone (TTY), call the Federal Relay Service (FRS), toll free, at 1-800-877-8339.

SUPPLEMENTARY INFORMATION:

Full Text of Announcement

I. Funding Opportunity Description

Purposes of Program: Under the 2019 EAI Program, we will award grants for emergency assistance to eligible IHEs affected by Hurricanes Florence and Michael, Typhoon Mangkhut, Super Typhoon Yutu, and wildfires, earthquakes, and volcanic eruptions occurring in calendar year 2018 and tornadoes and floods occurring in calendar year 2019 for which a major disaster or emergency has been declared under section 401 or 501 of the Robert T. Stafford Disaster Relief and Emergency Assistance Act (42 U.S.C. 5170 and 5191) (hereafter referred to as “a covered disaster or emergency”). Funds will be awarded to assist activities directly related to mitigating the effects of a covered disaster or emergency on students and institutions. To the extent possible, we will prioritize projects that support students who are homeless or who are at risk of becoming homeless as a result of displacement related to a covered disaster or emergency; and IHEs that have sustained extensive damage by a covered disaster or emergency.

Background: The Additional Supplemental Appropriations for Disaster Relief Act, 2019 (hereafter referred to as the Disaster Supplemental), Public Law 116-20, which was signed into law on June 6, 2019, provided a total of $165 million for education-related disaster recovery programs and gave the Secretary of Education discretion regarding how best to administer those funds to meet the needs of eligible entities at the elementary, secondary, and postsecondary levels of education. The Department has determined that the EAI Program is the most flexible and efficient authority for addressing the needs of institutions of higher education affected by a covered disaster or emergency. The Department also is using these funds to provide assistance to public and non-public elementary and secondary schools under the Immediate Aid to Restart School Operations (Restart) and the Temporary Emergency Impact Aid for Displaced Students (EIA) programs.

Exemption from Rulemaking: The 2019 EAI Program is exempt from the rulemaking requirements in section 437 of the General Education Provisions Act (GEPA) (20 U.S.C. 1232) and section 553 of the Administrative Procedure Act (APA) (5 U.S.C. 553), as established in division B, subdivision 1, title VIII, “Hurricane Education Recovery” paragraph (6), of Public Law 115-123, the Bipartisan Budget Act of 2018, and title VIII of Public Law 116-20, the Disaster Supplemental.

Program Authority: Title VIII of the Disaster Supplemental.

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The open licensing requirement in 2 CFR 3474.20 does not apply to this program.

II. Award Information

Estimated Available Funds: Congress appropriated $165 million to the Department under the Disaster Supplemental that will be used to make awards under this program and others authorized in the law. Consequently, the specific amount available for the 2019 EAI Program will be based on the Department's assessment of relative need across funded programs as determined by such factors as the number of applicants and their demonstrated need for assistance. The actual amount available for 2019 EAI awards will depend on funding allocated to the program, and awards to eligible applicants may be adjusted downward (or upward) to match available funding and award allocations as described in this notice.

Estimated Range of Awards: We will not make an award that, in combination with the total amount of reimbursement received by the IHE from insurance claims or other relief funds, would exceed the IHE's total net need.

Estimated Number of Awards: The Department does not yet have reliable estimates of the number of institutions that may be eligible or apply for 2019 EAI awards but intends to make awards to all eligible applicants.

Note: The Department is not bound by any estimates in this notice.

Grant Period under the 2019 EAI Program: IHEs must expend funds received under this program within 24 months of obligation by the Department. Funds are available for obligation by the Department through September 30, 2020.

III. Eligibility Information

1. Eligible Applicants: Institutions that (1) meet the definition of “institution of higher education” in section 101 or section 102(a)(1) of the Higher Education Act of 1965, as amended (HEA)(20 U.S.C. 1001 and 1002(a)(1)), (2) are located in areas directly affected by a covered disaster or emergency, and (3) that have education-related financial needs resulting from a covered disaster or emergency. A general list of disaster declarations and emergency declarations can be found at www.fema.gov/disasters.

Note: Receiving a grant for emergency assistance under the 2019 EAI Program does not affect the eligibility of the IHE to apply for funding under any other Department program.

2.(a) Cost Sharing or Matching: This program does not require cost sharing or matching.

(b) Supplement-Not-Supplant: This program involves supplement-not-supplant funding requirements. Grantees may not use 2019 EAI funds to supplant funds that otherwise would have been used for the same purpose, including funds made available through an insurance policy, the Federal Emergency Management Agency, a State, or a nonprofit relief organization. Grantees may use 2019 EAI funds to supplement funds from such sources without exceeding the full amount needed to remedy the effects of the covered disaster or emergency. (See Allocation Criteria.)

3. Subgrantees: A grantee under this competition may not award subgrants to entities to directly carry out project activities described in its application.

IV. Application and Submission Information

1. Application Submission Instructions: Applications for this program must be submitted in both of the following ways:

(a) Submit an application in electronic portable document format (PDF) or Microsoft Word format via email to EAIProgram@ed.gov. Questions regarding application submission can be directed to the program contact person listed under FOR FURTHER INFORMATION CONTACT.

(b) Mail the original and two copies of your application by express mail service through the U.S. Postal Service or through a commercial carrier to the program contact person listed under FOR FURTHER INFORMATION CONTACT.

2. Intergovernmental Review: This program is subject to Executive Order 12372 and the regulations in 34 CFR part 79. However, under 34 CFR 79.8(a), we waive intergovernmental review in order to make timely awards.

3. Funding Restrictions: We reference regulations outlining funding restrictions in the Applicable Regulations section of this notice.

4. Recommended Page Limit: The application narrative (Part III of the application) is where you, the applicant, address the allocation criteria that Department staff will use to evaluate your application. We recommend that you (1) limit the application narrative to no more than 20 pages and (2) use the following standards:

• A “page” is 8.5″ × 11″, on one side only, with 1” margins at the top, bottom, and both sides.

• Double space (no more than three lines per vertical inch) all text in the application narrative. Titles, headings, footnotes, quotations, references, and captions, as well as all text in charts, tables, figures, and graphs, are excluded.

• Use a font that is either 12 point or larger, and no smaller than 10 pitch (characters per inch).

• Use one of the following fonts: Times New Roman, Courier, Courier New, or Arial.

The recommended page limit does not apply to Part I, the cover sheet; Part II, the budget section, including the narrative budget justification; Part IV, the assurances and certifications. The page limit is recommended and non-binding.

V. Application Review Information

1. Institution's Data: IHEs which apply for grants must provide the following data: The number of days the institution was closed as a result of the covered disaster or emergency; the institution's student enrollment prior to the disaster; the institution's student enrollment after the disaster; the number of students to whom the institution intends to provide direct assistance using 2019 EAI funding; and the number of students the institution knows to be homeless or at risk of being homeless.

2. Needs and Severity Narrative: Applicants must describe the covered disaster's or emergency's impact on the institution and the need for funds. Applicants must also describe the severity of the damage to the institution's ability to return to full capacity.

3. Proposed Use of Funds: To the extent possible, applicants must identify the proposed or actual services or assistance to be paid for with the requested grant funds and explain how the services or assistance is consistent with the allowable uses of funds under the 2019 EAI Program.

Note: Allowable uses of funds include those authorized under the HEA. However, all activities funded under the program must be in the context of emergency assistance. That is, the funding must be used for activities directly related to mitigating the effects of a covered disaster or emergency on students and institutions. For instance, program funds may be used for student financial assistance, faculty and staff salaries, equipment, and student supplies and instruments. Grantees may not use program funds to supplant funds that otherwise would have been used for the same purpose, such as funds made available through an insurance policy, the Federal Emergency Management Agency (FEMA), a State, or a nonprofit relief organization, or any other third party. Grantees may use program funds to supplement funds from such sources up to the full amount needed for emergency assistance.

Use of funds for a purpose authorized under the HEA is subject to the regulations that pertain to that purpose. For example, if activities under a particular grant program or financial aid program were disrupted and require emergency aid to become fully operational, program funds for this purpose are subject to the regulations for that grant or aid program, except that any requirements relating to matching, Federal share, reservation of funds, or maintenance of effort under 20 U.S.C. 1087-51 et seq. or 1138 et seq. that would otherwise be applicable do not apply.

Information about the Federal Student Aid programs is available at studentaid.ed.gov/sa/. The U.S. Code version of the HEA is available at uscode.house.gov/view.xhtml?req=granuleid%3AUSC-prelim-title20-chapter28&edition=prelim.

4. Compliance Assurance: Applicants must provide an assurance that they will comply with all requirements that apply to the 2019 EAI Program, including but not limited to: Providing required certifications that all funds are expended on allowable activities; complying with reporting requirements; cooperating with any Inspector General inquiries; complying with applicable Office of Management and Budget assurances; and providing the required certification regarding restrictions on the use of funds for lobbying.

5. Allocation Criteria: The Secretary establishes the following factors as criteria that will be used in allocating these funds:

(a) Total funds requested. The amount of funds requested to remedy the effects of the covered disaster or emergency, including the uncovered costs for renovations, construction, and direct student services. Applicants should exclude any costs for which they have received or anticipate receiving reimbursement from other sources, including a Federal or other relief organization, to remedy the effects of the covered disaster or emergency.

Note: For direct student services applicants may only include those expenses directed to students who are homeless or at risk of becoming homeless, and applicants may not include expenses directed to a larger population of students, even if those expenses have aided some students who were homeless or at risk of becoming homeless. Applicants may, however, include expenses directed toward individual students who are homeless or at risk of becoming homeless, even if similar aid or services have been made available to other students.

(b) Funds needed to serve students who are homeless or at risk of becoming homeless. From the total disaster-related net expenses provided in (a), applicants should identify the funding needed to serve students who are homeless or at risk of becoming homeless.

(c) Funds received. Any amount of any insurance settlement or other funds received by the IHE, from any source including a Federal or other relief organization, to remedy the effects of the covered disaster or emergency.

6. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

7. Additional Monitoring: This program is designated as “susceptible to significant improper payments” for purposes of the Improper Payments Information Act of 2002 (31 U.S.C. 3321 note). See title VIII of the Disaster Supplemental, and Public Law 115-123, the Bipartisan Budget Act of 2018, division B, subdivision 1, title XII, § 21208(a), February 9, 2018, 132 Stat. 108. Consequently, if 2019 EAI Program grantees expend more than $10,000,000 under this program—a level of expenditures that the Department anticipates will be met—there will be additional requirements for grantees under the program, including making expenditure information and documentation available for review by the Department. We will provide additional information about this requirement after we make awards, providing advanced notice to ensure grantees understand their responsibilities for documenting all expenditures of 2019 EAI Program funds. In general, these documentation requirements are identical to those ordinarily required for all Federal education program expenditures; the primary impact of the Improper Payments Information Act will be increased review of this documentation.

VI. Award Administration Information

1. Award Notices: If you receive a grant award under the 2019 EAI Program, we notify your U.S. Representative and U.S. Senators and send you a Grant Award Notification (GAN); or we may send you an email containing a link to access an electronic version of your GAN. We may notify you informally, also.

2. Reporting: (a) If you apply for a grant under the program, you must ensure that you have in place the necessary processes and systems to comply with the reporting requirements in 2 CFR part 170 should you receive funding. This does not apply if you have an exception under 2 CFR 170.110(b).

(b) At the end of your project period, you must submit a final performance report, including financial information, as directed by the Secretary. The Secretary may also require more frequent performance reports under 34 CFR 75.720(c).

3. Performance Measure: The Secretary has established the number of enrolled students receiving 2019 EAI Program funding as the performance measure for assessing the effectiveness of the 2019 EAI Program.

VII. Other Information

Accessible Format: Individuals with disabilities can obtain this document and a copy of the application package in an accessible format (e.g., braille, large print, audiotape, or compact disc) on request to one of the persons listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or PDF. To use PDF you must have Adobe Acrobat Reader, which is available free at the site.

You may also access documents of the Department published in the Federal Register by using the article search feature at: www.federalregister.gov. Specifically, through the advanced feature at this site, you can limit your search to documents published by the Department.

Dated: September 11, 2019.
Robert L. King,
Assistant Secretary for the Office of Postsecondary Education.

[FR Doc. 2019-19941 Filed 9-13-19; 8:45 am]

BILLING CODE 4000-01-P